DEPARTMENT OF COMMERCE

International Trade Administration

[A-201-859]

Mattresses From Mexico: Final Affirmative Determination of Sales at Less-Than-Fair Value; Correction

AGENCY: Enforcement and Compliance, International Trade Administration, Department of Commerce.

ACTION: Notice; correction.

SUMMARY: The U.S. Department of Commerce (Commerce) published notice in the Federal Register on July 22, 2024, in which Commerce announced the final determination in the less-than-fair-value investigation of mattresses from Mexico. This notice failed to indicate the change in name for one of the individually examined companies.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

On July 22, 2024, Commerce published in the Federal Register the final determination in the less-than-fair-value investigation of mattresses from Mexico.¹ We listed an individually examined company under its correct name, i.e., “Colchones Wendy S.A. de C.V.,” in the table indicating the final estimated dumping margins.² This is a change in the company name from that published in the Preliminary Determination, wherein the company was inadvertently listed as “Wendy Colchones S.A. de C.V.” ³ However, the Final Determination did not include an explanation of the name change for this entity, and it should have explained that the name change was to correct the name as published in the Preliminary Determination.

¹ See Mattresses from Mexico: Final Affirmative Determination of Sales at Less-Than-Fair Value, 89 FR 59062 (July 22, 2024) (Final Determination).

² Id., 89 FR at 59063.

³ See Mattresses from Mexico: Preliminary Affirmative Determination of Sales at Less Than Fair Value, 89 FR 15152, 15153 (March 1, 2024) (Preliminary Determination).

Correction

In the Federal Register on July 22, 2024, in FR Doc 2024-15986, on page 59063, in the “Final Determination” section, correct the company name “Colchones Wendy S.A. de C.V.” by adding a footnote which states “The name `Colchones Wendy S.A. de C.V.' is the correct name for this entity and serves to correct the name of this entity in the Preliminary Determination, which read `Wendy Colchones S.A. de C.V.'” The corrected “Final Determination” section is attached as the appendix to this notice.

Notification to Interested Parties

This notice is issued and published in accordance with sections 735(d) and 777(i) of the Tariff Act of 1930, as amended, and 19 CFR 351.210(c).

Dated: August 2, 2024.
Ryan Majerus,
Deputy Assistant Secretary for Policy and Negotiations, performing the non-exclusive functions and duties of the Assistant Secretary for Enforcement and Compliance.

Appendix

Final Determination

The final estimated dumping margins are as follows:

⁴ The name “Colchones Wendy S.A. de C.V.” is the correct name for this entity and serves to correct the name of this entity in the Preliminary Determination, which read “Wendy Colchones S.A. de C.V.”

Exporter/producer | Estimated weighted-average dumping margin (percent)
Ureblock S.A. de C.V./Espumas de Oriente S.A. de C.V | 37.59
GAIM Regiomontana S.A. de C.V | * 61.97
Colchones Wendy S.A. de C.V.⁴ | * 61.97
All Others | 37.59
* Rate based on facts available with adverse inferences.

[FR Doc. 2024-17570 Filed 8-7-24; 8:45 am]

BILLING CODE 3510-DS-P